DEPARTMENT OF COMMERCE

National Institute of Standards and Technology

Proposed Information Collection; Comment Request; Community Resilience Panel

AGENCY: National Institute of Standards and Technology, Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 28, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Nancy McNabb, Community Resilience Program, National Institute of Standards and Technology, 100 Bureau Drive MS8615, 301-975-3777 or resilience@nist.gov.

SUPPLEMENTARY INFORMATION:

I. Abstract

The Community Resilience Panel for Buildings and Infrastructure Systems (Panel) is an organization that will engage a diverse group of stakeholders around goals and actions needed to achieve community resilience and to derive benefits from improved buildings and infrastructure.

The mission of the Panel is to promote collaboration among stakeholders who strive to strengthen the resilience of buildings, infrastructure, and social systems upon which communities rely. The Panel will consider the adequacy of standards, guidelines, best practices, and recommend, develop, and work with others to make improvements in community resilience.

The Panel will provide an open process for stakeholders to participate in the ongoing development, coordination and harmonization of community resilience guidance. The Panel will also evaluate existing metrics and standards to determine where improvements can be made to enhance resilience. Members will review case studies, recommend practices, coordinate, accelerate, and propose action plans for achieving community resilience goals.

The Panel will be managed and guided by the Community Resilience Panel Coordinating Committee (CRPCC) that approves and prioritizes work and arranges for the resources necessary to carry out its planned activities. The CRPCC's responsibilities include facilitating dialogue with standards development organizations and communities to ensure that proposed plans will be implemented.

A NIST contractor will serve as the Panel Administrator to review Panel documents and products approved by the CRPCC, add their own technical expertise to these deliverables prior to review by NIST, report on progress by managing the Panel's activities and ensure that all Panel work products are publicly available in the online Resilience Knowledge Base.

The Panel and CRPCC will constitute an open organization dedicated to balancing the needs of a variety of resilience related organizations. Any organization may become a member of the Panel. Members are required to declare an affiliation with an identified Stakeholder Category. Stakeholder members may contribute multiple Member Representatives, but only one voting Member Representative. Members must participate regularly in order to vote on the work products of the Panel.

The Panel membership form asks the applicant to provide his/her name, title, address, telephone, email address, organization, education, relevant work experience, standards developing experience, professional associations, stakeholder and standing committee areas of interest, as well as other relevant experience and areas of interest. The information provided by the applicants will be used to organize the Panel and select leaders who will use their expertise and experience in a consensus process that will achieve the goals and actions set forth in the Panel Charter and ByLaws.

The Panel is established under a contract to support NIST in its role under the NIST authorities set forth in 15 U.S.C. 272(b)(10), (c)(12) and (c)(15) and to fulfill NIST's responsibilities described in the President's Climate Action Plan of 2013. The Panel will identify, describe, and prioritize guidance for comprehensive community resilience planning across the United States,

II. Method of Collection

The Panel Administrator will launch a call for candidates for Panel members. Interested parties are encouraged to submit an application for membership electronically (Internet). Applications will also be accepted in paper format or by email.

III. Data

OMB Control Number: 0693-XXXX.

Form Number(s): None.

Type of Review: Regular submission, new information collection.

Affected Public: Organizations and individuals associated with the following stakeholder groups: Businesses and Industry, Building Construction and Safety, Community Planning, Community Social Institutions, Communication, Energy, Transportation and Water/Wastewater Systems, Facility Operations and Maintenance, Federal, Tribal, Regional, State and Local Governments, Insurance/Reinsurance, Relief Services, Standards Development and Vulnerable Populations.

Estimated Number of Respondents: 200.

Estimated Time per Response: 15 minutes.

Estimated Total Annual Burden Hours: 50.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 27, 2015.
Glenna Mickelson,
Management Analyst, Office of the Chief Information Officer.

[FR Doc. 2015-18658 Filed 7-29-15; 8:45 am]

BILLING CODE 3510-13-P